DEPARTMENT OF TRANSPORTATION

Federal Motor Carrier Safety Administration

[Docket No. FMCSA-2008-0224]

Parts and Accessories Necessary for Safe Operation; Grant of Exemption for Greyhound Lines, Inc.

AGENCY: Federal Motor Carrier Safety Administration (FMCSA), DOT.

ACTION: Notice of final disposition.

SUMMARY: The Federal Motor Carrier Safety Administration (FMCSA) announces its decision to grant an exemption to Greyhound Lines, Inc. (Greyhound) that will enable video event recorders to be mounted on its buses lower in the windshield than is currently permitted by the Agency's regulations. Greyhound requested the exemption so that it would be able to use the video event recorders to increase safety through (1) identification and remediation of risky driving behaviors such as distracted driving and drowsiness; (2) enhanced monitoring of passenger behavior; and (3) enhanced collision review and analysis. FMCSA believes that permitting these devices to be mounted lower than currently allowed, but still outside the driver's sight lines to the road and highway signs and signals, will maintain a level of safety that is equivalent to, or greater than, the level of safety achieved without the exemption.

DATES: This exemption is effective from March 19, 2009 through March 21, 2011.

FOR FURTHER INFORMATION CONTACT: Mr. Luke W. Loy, Vehicle and Roadside Operations Division, Office of Bus and Truck Standards and Operations, MC-PSV, (202) 366-0676, Federal Motor Carrier Safety Administration, 1200 New Jersey Avenue, SE., Washington, DC 20590-0001.

SUPPLEMENTARY INFORMATION:

Background

Under 49 U.S.C. 31315 and 31136(e), FMCSA may grant an exemption from the prohibition on obstructions to the driver's field of view requirements in 49 CFR 393.60(e) for a two-year period if it finds “such exemption would likely achieve a level of safety that is equivalent to, or greater than, the level of safety that would be achieved absent such exemption” (49 CFR 381.305(a)).

Greyhound's Request for Exemption

Greyhound applied for an exemption from 49 CFR 393.60(e)(1) to allow it to install video event recorders on some or all its bus fleet, which totals approximately 1,650 buses.

Section 393.60(e)(1) of the Federal Motor Carrier Safety Regulations (FMCSRs) prohibits the obstruction of the driver's field of view by devices mounted at the top of the windshield. Antennas, transponders and similar devices (devices) must not be mounted more than 152 mm (6 inches) below the upper edge of the windshield. These devices must be located outside the area swept by the windshield wipers and outside the driver's sight lines to the road and highway signs and signals.

Greyhound states that over the last several years, the structural and aesthetic design of buses has changed considerably to include larger windshields that encompass a larger percentage of the front area of a motor coach and that extend well beyond the driver's useable sight line. As a result, manufacturers have voluntarily installed larger windshield wipers on these windshields that increase the swept area beyond the minimum required by Federal Motor Vehicle Safety Standard (FMVSS) No. 104, “Windshield wiping and washing systems.” FMVSS No. 104 establishes the requirements applicable to vehicle and equipment manufacturers for windshield wiper system coverage for passenger cars, multi-purpose passenger vehicles, trucks and buses.

Greyhound states that video event recorders, for optimal effectiveness, are mounted on the vehicle windshield on the interior of the vehicle in a position that enables the video-capture of what is happening in front of the vehicle as well as an internal video-capture of the driver and passengers. The view of what is happening in front of the vehicle requires that the forward lens of the recorder be in the swept area of the windshield for a clear view in inclement weather. Greyhound states:

“Section 393.60(e)(1) was designed to avoid placement of devices on the windshield that would obstruct a driver's useful view of the roadway. However, because of the increase of the size of motorcoach windows and the corresponding increase in the area swept by the windshield wipers, video event recorders now must be mounted so high on the window as to limit the view of drivers, passengers, and collision events. Thus, the level of safety that can be produced by use of video event recorders is limited by the current regulation. By comparison, the proposed alternative will enable Greyhound to lower the placement of the video event recorders to a level, which will maximize the external and internal views of the recorders while still having them mounted high enough so as not to limit the field of vision of the driver.”

Greyhound notes in its exemption application that the Commercial Vehicle Safety Alliance (CVSA) submitted a petition for rulemaking to FMCSA on October 18, 2007, to amend 49 CFR 393.60(e). The CVSA petition requests that the FMCSRs be amended to permit video event recorders and similar devices that require a clear forward facing visual field to be mounted not more than 50 mm (2 inches) below the upper edge of the area swept by the windshield wipers, provided that they are located outside the driver's sight lines to the road and highway signs and signals. Greyhound proposes to comply with the language proposed by CVSA during the period of the exemption. A copy of Greyhound's application for exemption and the CVSA petition are available for review in the docket for this notice.

Comments

On August 11, 2008, FMCSA published notice of this application, and asked for public comment (73 FR 46704). No comments were received.

Terms and Conditions for the Exemption

Based on its evaluation of the application for an exemption, FMCSA has decided to grant Greyhound's exemption application. The Agency believes that the safety performance of Greyhound during the 2-year exemption period will likely achieve a level of safety that is equivalent to, or greater than, the level of safety achieved without the exemption because (1) the video event recorders would not obstruct drivers' views of the roadway, highway signs and surrounding traffic because the panoramic windshields encompass a large percentage of the front of buses and extend well above the driver's sight lines; (2) larger wipers increase the swept area well beyond that which is recommended by the Society of Automotive Engineers guidelines for commercial vehicles; and (3) placement of video event recorders just below the larger swept area of the wipers will be well outside of useable driver's sight lines, and will not negatively affect safety. The Agency believes that the potential safety gains from the use of video event recorders to improve driver behavior will improve the overall level of safety to the motoring public.

The Agency hereby grants the exemption for a two-year period, beginning March 19, 2009 and ending March 21, 2011.

During the exemption period, Greyhound must ensure that all video event recorders are mounted not more than 50 mm (2 inches) below the upper edge of the area swept by the windshield wipers, and outside the driver's sight lines to the road and highway signs and signals.

Interested parties possessing information that would demonstrate that Greyhound is not achieving the requisite statutory level of safety should immediately notify FMCSA. The Agency will evaluate any such information and, if safety is being compromised or if the continuation of the exemption is not consistent with 49 U.S.C. 31315(b) and 31136(e), will take immediate steps to revoke Greyhound's exemption, if warranted.

Preemption

During the period the exemption is in effect, no State shall enforce any law or regulation that conflicts with or is inconsistent with this exemption with respect to a person operating under the exemption.

Issued on: March 12, 2009.
Rose A. McMurray,
Acting Deputy Administrator.

[FR Doc. E9-5990 Filed 3-18-09; 8:45 am]

BILLING CODE 4910-EX-P